DEPARTMENT OF EDUCATION

Notice of Submission for OMB Review; Federal Student Aid; Student Assistance General Provisions—Student Right-to-Know

SUMMARY: Section 485 of the Higher Education Act of 1965, as amended (HEA) authorizes the administration of the Student Right-to-Know (SRK) regulations. The implementing regulations are in 34 CFR 668.41 and 668.45 and relate to the retention, placement and post-graduate study by students at an institution.

DATES: Interested persons are invited to submit comments on or before November 26, 2012.

ADDRESSES: Comments submitted in response to this notice should be submitted electronically through the Federal eRulemaking Portal at http://www.regulations.gov by selecting Docket ID number ED-2012-ICCD-0042 or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E117, Washington, DC 20202-4537.

Individuals who use a telecommunications device for the deaf (TDD) may call the Federal Information Relay Service (FIRS) at 1-800-877-8339.

SUPPLEMENTARY INFORMATION: Section 3506 of the Paperwork Reduction Act of 1995 (44 U.S.C. Chapter 35) requires that Federal agencies provide interested parties an early opportunity to comment on information collection requests. The Director, Information Collection Clearance Division, Privacy, Information and Records Management Services, Office of Management, publishes this notice containing proposed information collection requests at the beginning of the Departmental review of the information collection. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Student Assistance General Provisions—Student Right-to-Know.

OMB Control Number: 1845-0004.

Type of Review: Extension without change of a currently approved collection.

Total Estimated Number of Annual Responses: 25,068.

Total Estimated Number of Annual Burden Hours: 16,244.

Abstract: Pursuant to the HEA and in accordance with 34 CFR 668.41 and 668.45, eligible participating postsecondary institutions are required to provide this SRK information to all enrolled students, prospective students prior to their enrolling or entering into a financial obligation with the school as well as to the institution's employees. This information pertains to the completion, graduation and post-graduate study rates for students at a given institution. This information must be made through publications, mailings and electronic media. The SRK information is made available so that students and prospective students at that institution to complete a course of study as well as education opportunities upon graduation.

Dated: October 19, 2012.
Darrin A. King,
Director, Information Collection Clearance Division Privacy, Information and Records Management Services Office of Management.

[FR Doc. 2012-26392 Filed 10-25-12; 8:45 am]

BILLING CODE 4000-01-P